NUCLEAR REGULATORY COMMISSION

[Docket No. 50-395; NRC-2023-0152]

Dominion Energy South Carolina, Inc.; Virgil C. Summer Nuclear Station, Unit No. 1; Notice of Intent To Prepare Environmental Impact Statement

AGENCY: Nuclear Regulatory Commission.

ACTION: Notice.

SUMMARY: The U.S. Nuclear Regulatory Commission (NRC) will prepare a supplemental environmental impact statement (SEIS) to evaluate the environmental impacts for the subsequent license renewal (SLR) of Renewed Facility Operating License No. NPF-12 for Virgil C. Summer Nuclear Station, Unit No. 1 (V.C. Summer).

DATES: October 1, 2024.

ADDRESSES: Please refer to Docket ID NRC-2023-0152 when contacting the NRC about the availability of information for this action. You may obtain publicly available information related to this action by any of the following methods:

• Federal Rulemaking Website: Go to https://www.regulations.gov and search for Docket ID NRC-2023-0152. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced in this document (if it is available in ADAMS) is provided the first time that it is referenced.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of the SLR application for V.C. Summer, including the environmental report (ER), is available for public review at the following public library location: Fairfield County Library, 300 West Washington St., Winnsboro, SC 29180.

FOR FURTHER INFORMATION CONTACT: Kim Conway, Office of Nuclear Material Safety and Safeguards; U.S. Nuclear Regulatory Commission, Washington, DC 20555-0001; telephone: 301-415-1335; email: Kimberly.Conway@nrc.gov.

SUPPLEMENTARY INFORMATION:

I. Background

On August 17, 2023, Dominion Energy South Carolina, Inc. submitted to the NRC an application for SLR of Renewed Facility Operating License No. NPF-12 for V.C. Summer, for an additional 20 years of operation (ADAMS Accession No. ML23233A172). This submission initiated the NRC's proposed action of determining whether to grant the SLR application. The V.C. Summer unit is a pressurized-water reactor designed by Westinghouse and is located near Jenkinsville, South Carolina. The current renewed operating license for V.C. Summer expires August 6, 2042. The SLR application was submitted pursuant to part 54 of title 10 of the Code of Federal Regulations (10 CFR), “Requirements for Renewal of Operating Licenses for Nuclear Power Plants,” and seeks to extend the renewed facility operating license for V.C. Summer to midnight on August 6, 2062.

On November 3, 2023, the NRC published a notice of intent to conduct a scoping process and prepare a site-specific environmental impact statement (EIS) (88 FR 75627). Consistent with Commission Legal Issuance (CLI)-22-03, the SLR application contained an ER in which the impacts of all environmental issues were evaluated on a site-specific basis, and the NRC staff initiated a review to address the impacts for all such issues during the SLR period in a site-specific EIS. The NRC staff stated in the original notice of intent that it would first conduct a scoping process for the site-specific EIS and then prepare a draft site-specific EIS for public comment. During the 30-day scoping period, the NRC received comments through written correspondence and two public meetings.

II. Discussion

On August 6, 2024, the NRC published a final rule in the Federal Register (89 FR 64166) revising its environmental protection regulations in 10 CFR part 51, “Environmental protection regulations for domestic licensing and related regulatory functions.” The final rule updates the potential environmental impacts associated with the renewal of an operating license for a nuclear power plant for up to an additional 20 years for either an initial license renewal or one period of SLR. Revision 2 to NUREG-1437, “Generic Environmental Impact Statement for License Renewal of Nuclear Plants” (LR GEIS) (ADAMS Package Accession No. ML24087A133) provides the technical basis for the final rule. The revised LR GEIS supports the updated list of environmental issues and associated environmental impact findings contained in table B-1 in appendix B to subpart A of the revised 10 CFR part 51 for both initial license renewals and one period of SLR.

The final rule became effective on September 5, 2024, 30 days after its publication in the Federal Register, and staff must now consider the new and modified issues, as applicable, in its license renewal EISs. Accordingly, the NRC staff intends to prepare a plant-specific supplement to the LR GEIS for the V.C. Summer SLR application. In contrast to the previously planned site-specific EIS, the SEIS will rely on the LR GEIS determinations for Category 1 (generic) issues that apply to all or a distinct subset of nuclear power plants. Site-specific information will be considered only on Category 2 (site-specific) issues and will be screened for new and significant information on Category 1 issues.

The NRC staff has determined that the original scoping period conducted for a site-specific EIS review is sufficient to include any comments that would have been submitted for a SEIS that relies on site-specific determinations for Category 2 issues and on the LR GEIS generic determinations for Category 1 issues; therefore, an additional scoping period will not be conducted. All information submitted during the 30-day scoping period that began November 3, 2023, will be considered and evaluated as appropriate during the development of the staff's SEIS for the V.C. Summer SLR. When issued, the draft SEIS will be made available for public comment in accordance with 10 CFR 51.73.

Dated: September 26, 2024.
For the Nuclear Regulatory Commission.
Stephen Koenick,
Chief, Environmental Project Management Branch 1, Division of Rulemaking, Environment, and Financial Support, Office of Nuclear Material Safety and Safeguards.

[FR Doc. 2024-22478 Filed 9-30-24; 8:45 am]

BILLING CODE 7590-01-P